DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 84 FR 49535-49540 dated September 20, 2019).

HRSA is making changes within the Federal Office of Rural Health Policy (FORHP) in order to realign the functions for the management of emerging rural health program initiatives, including rural substance abuse programs.

This reorganization updates the organization, functions, and delegation of authority of FORHP (RH). Specifically this reorganization (1) establishes the Rural Strategic Initiatives Division; and (2) updates the functional statement for the Federal Office of Rural Health Policy (RH).

Chapter RH—Federal Office of Rural Health Policy

Section RH.10 Organization

Delete the organization for FORHP (RH) in its entirety and replace with the following:

The Federal Office of Rural Health Policy is headed by the Associate Administrator, who reports directly to the Administrator, HRSA. FORHP includes the following components:

(1) Office of the Associate Administrator (RH)

(2) Hospital State Division (RH1);

(3) Community-Based Division (RH2);

(4) Office for the Advancement of Telehealth (RH4);

(5) Policy Research Division (RH5);

(6) Administrative Operations Division (RH6); and

(7) Rural Strategic Initiatives Division (RH7).

Section RH.20 Function

Delete the functional statement for FORHP (RH) and in its entirety and replace with the following:

Federal Office of Rural Health Policy (RH)

Office of the Associate Administrator (RH)

The Federal Office of Rural Health Policy (FORHP) is responsible for the overall leadership and management of the Office. FORHP serves as a focal point within HHS for rural health-related issues and as a principal source of advice to the Secretary for coordinating efforts to strengthen and improve the delivery of health services to populations in the nation's rural areas. FORHP provides leadership within HHS and with stakeholders in providing information and counsel related to access to, and financing and quality of, health care to rural populations. Specifically, the Office of the Associate Administrator (1) provides staff support to the National Advisory Committee on Rural Health and Human Services; (2) stimulates and coordinates interaction on rural health activities and programs in the agency, Department and with other federal agencies; (3) establishes and maintains a resource center for the collection and dissemination of the latest information and research findings related to the delivery of health services in rural areas; (4) ensures successful dissemination of appropriate information technology advances, such as telehealth or electronic health records systems; (5) monitors the health information technology policy and activities of other HHS components for useful application in rural areas; (6) provides overall direction and leadership over the management of nationwide community-based rural health grants programs; (7) provides overall direction and leadership over the management of a program of state grants which supports collaboration within state offices of rural health; (8) provides overall direction and leadership over the management of programs to advance the use of telehealth and coordination of health information technology; (9) provides overall direction and leadership over the Office's administrative and management functions; and (10) provides overall direction and leadership over the Office's new rural health program initiatives created as a result of agency, Department and/or administrative priorities.

Hospital State Division (RH1)

The Hospital State Division serves as the focal point within FORHP to support rural hospital and state grant programs focused on rural populations. Specifically, the Hospital State Division is organized around the following primary issue areas: (1) Plans and manages a program of state grants which support collaboration within state offices of rural health; (2) works with states, state hospital associations, private associations, foundations, and other organizations to focus attention on, and promote solutions to, problems related to the delivery of health services in rural communities; and (3) provides coordinated technical assistance to grantees and rural communities.

Community-Based Division (RH2)

The Community-Based Division serves as the focal point within FORHP to support rural community grant programs. Specifically, the Community-Based Division is organized around the following primary issue areas: (1) Plans and manages several nationwide rural health grants programs; (2) supports programs on rural health, public health, and health status improvement; (3) funds public and private non-profit entities for the operation of clinics that provide diagnosis, treatment, and rehabilitation of active and retired coal miners and others with respiratory ailments (black lung) and other occupational related respiratory disease impairments; (4) funds radiation exposure screening and education programs that screen eligible individuals adversely affected by the mining, transport, and processing of uranium and the testing of nuclear weapons for cancer and other diseases; and (5) provides technical assistance to grantees and rural communities.

Office for the Advancement of Telehealth (RH4)

The Office for the Advancement of Telehealth serves as the operational focal point for coordinating and advancing the use of telehealth technologies across all of HRSA's programs including, but not limited to, the provision of health care at a distance (telemedicine); distance-based learning to improve the knowledge of agency grantees, and others; and improved information dissemination to both consumers and providers about the latest developments in telemedicine. The Office for the Advancement of Telehealth carries out the following functions, specifically the Office (1) develops and coordinates telehealth network and telehealth resource centers grant programs; (2) provides professional assistance and support in developing telehealth initiatives; and (3) administers grant programs to promulgate and evaluate the use of appropriate telehealth technologies among HRSA grantees and others.

Policy Research Division (RH5)

The Policy Research Division serves as the focal point within FORHP to support health policy and research focused on rural populations. Specifically, the Policy Research Division (1) supports rural health research centers and keeps informed of research and demonstration projects funded by states and foundations in the field of rural health care delivery; (2) establishes and maintains a resource center for the collection and dissemination of the latest information and research findings related to the delivery of health services in rural areas; (3) maintains data and analytic capabilities to support office functions; (4) advises the agency, Administrator, and Department on the effects of current policies and proposed statutory, regulatory, administrative, and budgetary changes in the programs established under titles XVIII and XIX of the Social Security Act, on the financial viability of small rural hospitals and the ability of rural areas to attract and retain physicians and other health professionals; and (5) monitors rural hospital impact analyses developed by the Centers for Medicare & Medicaid Services whenever proposed regulations might have a significant impact on a substantial number of small rural hospitals.

Administrative Operations Division (RH6)

The Administrative Operations Division collaborates with FORHP leadership to plan, coordinate, and direct FORHP-wide administrative management activities. Specifically, the Administrative Operations Division (1) develops, executes, and monitors FORHP's budget; (2) provides guidance and coordination of human resources; (3) plans, coordinates, and manages FORHP's grant activities; (4) plans, coordinates, and manages FORHP's procurement activities; (5) coordinates the review and clearance of correspondence and official documents to and from FORHP; and (6) provides additional management support services including, but not limited to, timekeeping, supplies, equipment, space, records, and training.

Rural Strategic Initiatives Division (RH7)

The Rural Strategic Initiatives Division serves as the focal point within FORHP to plan and coordinate new rural program initiatives created as a result of agency, Department, and/or Administration priorities. Specifically, the Rural Strategic Initiatives Division (1) plans and manages rural health substance-abuse grant programs; (2) leads and manages new rural health program initiatives that emerge as a result of agency, Department, or Administration priorities; (3) provides technical assistance to grantees and rural communities; and (4) evaluates new rural programs to determine the impact of the resources invested in rural communities.

Section RH.30 Delegation of Authority

All delegations of authority and re-delegations of authority made to officials and employees of affected organizational components will continue in them or their successors pending further redelegation, if allowed, provided they are consistent with this reorganization.

Alex M Azar II,
Secretary.

[FR Doc. 2020-07153 Filed 4-3-20; 8:45 am]

BILLING CODE 4165-15-P